DEPARTMENT OF LABOR

Proposed Information Collection Request for the ETA 538 and ETA 539, Weekly Initial and Continued Claims; Comment Request for Extension Without Change

AGENCY: Employment and Training Administration

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before July 21, 2009.

ADDRESSES: Send comments to Scott Gibbons, U.S. Department of Labor, Employment and Training Administration, Office of Workforce Security, 200 Constitution Avenue, NW., Frances Perkins Bldg., Room S-4531, Washington, DC 20210, telephone number (202) 693-3008 (this is not a toll-free number) or by e-mail: gibbons.scott@dol.gov.

SUPPLEMENTARY INFORMATION: I. Background: The ETA 538 and ETA 539 reports are weekly reports which contain information on initial claims and continued weeks claimed. These figures are important economic indicators. The ETA 538 provides information that allows national unemployment claims information to be released to the public five days after the close of the reference period. The ETA 539 contains more detailed weekly claims information and the state's 13-week insured unemployment rate which is used to determine eligibility for the Extended Benefits program.

II. Desired Focus of Comments: The Department of Labor is particularly interested in comments which:

• Evaluate whether the proposed collection of information is necessary, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions: The ETA 538 and ETA 539 continue to be needed as they provide both timely economic indicators as well as the information needed to track the data that trigger states “on” and “off” the Extended Benefits program.

Type of Review: Extension without change.

Agency: Employment and Training Administration (ETA).

Title: Weekly Initial and Continued Claims.

OMB Number: 1205-0028.

Agency Number: ETA 538, ETA 539.

Affected Public: State and Local Governments.

Total Respondents: 53.

Frequency: Weekly.

Total Responses: 104 (52 weekly responses for each of the two reports).

Average Time per Response: 30 minutes per submittal for the ETA 538, 50 minutes per submittal for the ETA 539.

Estimated Total Burden Hours:

|  | Reports |  | Minutes |  | Hours
ETA 538—53 States | × | 52 | × | 30 | = | 1,378.
ETA 539—53 States | × | 52 | × | 50 | = | 2,297.

Total Burden Hours: 3,675.

Total Burden Cost (capital/startup): $0.

Total Burden Cost (operating/maintaining): $0.

Comments submitted in response to this notice will be summarized and/or included in the request for Office of Management and Budget approval of the information collection request; they will also become a matter of public record.

Dated: Friday, May 15, 2009.
Cheryl Atkinson,
Administrator, Office of Workforce Security.

[FR Doc. E9-11962 Filed 5-21-09; 8:45 am]

BILLING CODE 4510-FW-P